DEPARTMENT OF THE INTERIOR

Fish and Wildlife Service

Information Collection Renewal Submitted to the Office of Management and Budget (OMB) for Approval Under the Paperwork Reduction Act; OMB Control Number 1018-0111; Summary Information for Ranking National Coastal Wetlands Grant Program Proposals, 50 CFR Part 84

AGENCY: Fish and Wildlife Service, Interior.

ACTION: Notice; request for comments.

SUMMARY: The Fish and Wildlife Service (We) has submitted the collection of information listed below to OMB for approval under the provisions of the Paperwork Reduction Act of 1995. If you wish to obtain copies of the proposed information collection requirement, the related form, or explanatory material, contact the Service Information Collection Clearance Officer at the address listed below.

DATES: You must submit comments on or before October 29, 2004.

ADDRESSES: Submit your comments on this information collection renewal to the Desk Officer for the Department of the Interior at OMB-OIRA at (202) 395-6566 (fax) or OIRA_DOCKET@omb.eop.gov (e-mail). Please provide a copy of your comments to the Fish and Wildlife Service Information Collection Clearance Officer, 4401 N. Fairfax Dr., MS 222 ARLSQ, Arlington, VA 22203; (703) 358-2269 (fax); or hope_grey@fws.gov (e-mail).

FOR FURTHER INFORMATION CONTACT: To request a copy of the information collection request, explanatory information, or the related form, contact Hope Grey by phone at (703) 358-2482, or by e-mail at hope_grey@fws.gov.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). We have submitted a request to OMB to renew approval of the collection of information included on FWS Form 3-2179 (Summary Information for Ranking of National Coastal Wetlands Grant Program Proposals). This form is approved under OMB control number 1018-0111, which expires on September 30, 2004. We are requesting a 3-year term of approval for this information collection activity. OMB has up to 60 days to approve or disapprove this information collection but may respond after 30 days. To ensure consideration, send your comments to OMB by the date listed in the DATES section near the beginning of this Notice.

Federal agencies may not conduct or sponsor, and a person is not required to respond to, a collection of information unless it displays a currently valid OMB control number. On May 14, 2004, we published in the Federal Register (69 FR 26877) a notice announcing that we planned to submit a request to renew this information collection to OMB for approval under the Paperwork Reduction Act of 1995. In that notice, we solicited public comments for 60 days, ending July 13, 2004. By that date, we received one comment, which was editorial in nature. The commenter expressed concern that more land needs to be conserved but did not comment on the merits of this information collection. As such, we have not made any changes to our information collection at this time.

We administer the National Coastal Wetlands Conservation Grant program authorized by the Coastal Wetlands Planning, Protection and Restoration Act (16 U.S.C. 3951-3956). We use the information collected on FWS Form 3-2179 to evaluate proposals under this program. The information collected includes summarized information on habitat, coastal barriers, levels of conservation, watershed management, threatened and/or endangered species potentially involved, benefits of the restoration proposed, partners, cost sharing, education/outreach impact, impact on wildlife-oriented recreation, and other benefits. Because grant applicants complete the summary information, the information is a thorough and accurate summary of the proposal. This summary information allows easy ranking of proposals in a short period of time.

Title: Summary Information for Ranking National Coastal Wetlands Conservation Grant Program Proposals, 50 CFR 84.

OMB Control Number: 1018-0111.

Form Number: 3-2179.

Frequency of Collection: Annual.

Description of Respondents: Coastal States and territories, as follows:

States bordering the Great Lakes (Illinois, Indiana, Michigan, Minnesota, New York, Ohio, Pennsylvania, and Wisconsin); Most States bordering the Atlantic, Gulf, and Pacific coasts (Alabama, Alaska, California, Connecticut, Delaware, Florida, Georgia, Hawaii, Maine, Maryland, Massachusetts, Mississippi, New Hampshire, New Jersey, New York, North Carolina, Oregon, Rhode Island, South Carolina, Texas, Virginia, and Washington); and Territories of American Samoa, Commonwealth of the Northern Mariana Islands, Guam, Puerto Rico, and the Virgin Islands.

(Please note that Louisiana is not included in this program because it has its own wetlands conservation program authorized by the Coastal Wetlands Planning, Protection and Restoration Act and implemented by the Corps of Engineers with assistance from the State of Louisiana, the Environmental Protection Agency, and the Departments of the Interior, Agriculture, and Commerce.)

Total Annual Burden Responses: 35.

Total Annual Burden Hours: 18.

Form name | Completion time per form | Annual number of responses | Annual hour burden
3-2179 | ½ hour | 35 | 17.5

We again invite comments on: (1) Whether or not the collection of information is necessary for the proper performance of the functions of the agency, including whether or not the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: September 17, 2004.
Hope Grey,
Information Collection Clearance Officer, Fish and Wildlife Service.

[FR Doc. 04-21849 Filed 9-28-04; 8:45 am]

BILLING CODE 4310-55-P